DEPARTMENT OF THE INTERIOR

Bureau of Land Management

[LLAZ910000.L12100000.XP0000LXSS150A00006100.241A]

State of Arizona Resource Advisory Council Meetings

AGENCY: Bureau of Land Management, Interior.

ACTION: Notice of Change in Public Meeting Date.

SUMMARY: In accordance with the Federal Land Policy and Management Act of 1976 and the Federal Advisory Committee Act of 1972, the U.S. Department of the Interior, Bureau of Land Management (BLM), Arizona Resource Advisory Council (RAC) will meet, in Phoenix, Arizona, as indicated below.

DATES: The January 28-29, 2014, Arizona RAC meeting has been rescheduled for Wednesday, January 29, and Thursday, January 30, 2014.

ADDRESSES: The meeting will be held at the BLM National Training Center located at 9828 North 31st Avenue, Phoenix, Arizona 85051.

FOR FURTHER INFORMATION CONTACT: Dorothea Boothe, Arizona RAC Coordinator at the Bureau of Land Management, Arizona State Office, One North Central Avenue, Suite 800, Phoenix, Arizona 85004-4427, 602-417-9504. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15-member Council advises the Secretary of the Interior, through the BLM, on a variety of planning and management issues associated with public land management in Arizona. Planned agenda items include: a welcome and introduction of Council members; BLM State Director's update on BLM programs and issues; updates on the RAC's Colorado River District Grazing Subcommittee; Section 106 Consultation Process; Department of the Interior Themes and Landscape Level Opportunities for BLM; Sonoran Landscape Pilot; U.S. Forest Service Recreation Fee Program Proposals; reports by the RAC Working Groups; RAC questions on BLM District Manager Reports; and other items of interest to the RAC. The Recreation RAC (RRAC) Working Group will review and make recommendations on U.S. Forest Service recreation fee program proposals. Members of the public are welcome to attend the Working Group and Business meetings. A public comment period is scheduled on the second day (Business meeting) from 11:15 a.m. to 11:45 a.m. during the RRAC Session for any interested members of the public who wish to address the Council on BLM or Forest Service recreation fee programs, and again from 1:30 p.m. to 2 p.m. for any interested members of the public who wish to address the Council on any other BLM programs and business. Depending on the number of persons wishing to speak and time available, the time for individual comments may be limited. Written comments may also be submitted during the meeting for the RAC's consideration. The final meeting agenda will be available one week prior to the meeting and posted on the BLM Web site at http://www.blm.gov/az/st/en/res/rac.html. Individuals who need special assistance, such as sign language interpretation or other reasonable accommodations, should contact the RAC Coordinator listed above no later than two weeks before the start of the meeting.

Under the Federal Lands Recreation Enhancement Act, the RAC has been designated as the RRAC and has the authority to review all BLM and Forest Service recreation fee proposals in Arizona. The RRAC will review recreation fee program proposals at this meeting.

Raymond Suazo,
State Director.

[FR Doc. 2014-00796 Filed 1-15-14; 8:45 am]

BILLING CODE 4310-32-P